DEPARTMENT OF HEALTH AND HUMAN SERVICES

Office of the Secretary

Findings of Scientific Misconduct

AGENCY: Office of the Secretary, HHS.

ACTION: Notice.

SUMMARY: Notice is hereby given that the Office of Research Integrity (ORI) and the Assistant Secretary for Health have taken final action in the following case:

M. Renuka Prasad, Ph.D., University of Kentucky School of Medicine: Based on the report of an investigation conducted by the University of Kentucky (UK) and additional analysis conducted by ORI in its oversight review, the U.S. Public Health Service (PHS) found that Dr. Prasad, a former Research Professor of Surgery, UK School of Medicine, engaged in scientific misconduct by fabricating and falsifying data. The research was supported by the National Institute of Neurological Disorders and Stroke (NINDS), National Institutes of Health (NIH), grant R01 NS34264, “Phospholipases in traumatic brain injury.” This research is important to understanding the mechanism of breakdown of the blood-brain barrier and swelling from edema that occurs after traumatic injury of the brain.

Specifically, PHS found that Dr. Prasad:

(1) Fabricated data to calculate a standard error of the mean for Bcl-2 mRNA intensity values for the sham group: 16 values (four percentages for each of the four brain regions assayed), when only a single sham value of 100% was actually available, for the error bars shown in Figures 2 and 3 of a manuscript, “Regional expression of Bcl-2 MRNA and mitochondrial cytochrome c release after experimental brain injury in the rat,” submitted to Brain Research, and included in Figures 11 and 12 of NINDS grant application R01 NS41918-01, “Neurochemical mechanisms in traumatic brain injury;” and

(2) Knowingly reported falsified data in Figures 1 and 3 and in the text of Dhillon, H.S. & Prasad, M.R. “Kynurenate attenuates the accumulation of diacylglycerol and free fatty acids after experimental brain injury in the rat.” Brain Research 832:7-12, 1999.

Dr. Prasad has entered into a Voluntary Exclusion Agreement in which he has voluntarily agreed:

(1) That for a period of three (3) years, beginning on August 19, 2002:

(a) Any institution that submits an application for PHS support for a research project on which Dr. Prasad's participation is proposed or that uses Dr. Prasad in any capacity on PHS supported research, or that submits a report of PHS funded research in which Dr. Prasad is involved, must concurrently certify in every PHS research application or report that Dr. Prasad is prohibited from supervising other research staff; and

(b) Any institution employing Dr. Prasad is required to submit, in conjunction with each application for PHS funds or report, manuscript, or abstract of PHS funded research in which Dr. Prasad is involved, a certification that the data provided by Dr. Prasad are based on actual experiments or are otherwise legitimately derived, and that the data, procedures, and methodology are accurately reported in the application or report;

(2) To exclude himself from serving in any advisory capacity to PHS, including but not limited to service on any PHS advisory committee, board, and/or peer review committee, or as a consultant for a period of three (3) years, beginning on August 19, 2002; and

(3) That within 30 days of the effective date of the Agreement, Dr. Prasad must submit a letter to the journal Brain Research requesting retraction of the paper: Dhillon, H.S. & Prasad, M.R. “Kynurenate attenuates the accumulation of diacylglycerol and free fatty acids after experimental brain injury in the rat.” Brain Research 832:7-12, 1999, stating that some of the data for the reported effects of kynurenate are falsified. This requirement will remain on the ALERT System until Dr. Prasad sends a copy of the retraction letter to ORI.

FOR FURTHER INFORMATION CONTACT: Director, Division of Investigative Oversight, Office of Research Integrity, 5515 Security Lane, Suite 700, Rockville, MD 20852, (301) 443-5330.

Chris B. Pascal,
Director, Office of Research Integrity.

[FR Doc. 02-22565 Filed 9-04-02; 8:45 am]

BILLING CODE 4150-31-P